DEPARTMENT OF HEALTH AND HUMAN SERVICES

National Institutes of Health

Center for Scientific Review; Amended Notice of Meeting

Notice is hereby given of a change in the meeting of the Center for Scientific Review Special Emphasis Panel, July 18, 2013, 8:00 a.m. to July 19, 2013, 6:00 p.m., National Institutes of Health, 6701 Rockledge Drive, Bethesda, MD, 20892 which was published in the Federal Register on June 18, 2013, 78 FR 36553-36554.

The meeting will be held on July 17-July 18, 2013. The meeting location and time remain the same. The meeting is closed to the public.

Dated: July 12, 2013.
Anna Snouffer,
Deputy Director, Office of Federal Advisory Committee Policy.

[FR Doc. 2013-17184 Filed 7-17-13; 8:45 am]

BILLING CODE 4140-01-P